ENVIRONMENTAL PROTECTION AGENCY

40 CFR Part 271

[FRL-6889-5]

Indiana: Final Authorization of State Hazardous Waste Management Program Revision

AGENCY: Environmental Protection Agency (EPA).

ACTION: Withdrawal of immediate final rule.

SUMMARY: We are withdrawing the immediate final rule for Indiana: Final Authorization of State Hazardous Waste Management Program Revision published on July 26, 2000, which approved changes to its hazardous waste program under the Resource Conservation and Recovery Act (RCRA). We stated in the immediate final rule that if we received written comments that oppose this authorization during the comment period, we would publish a timely notice of withdrawal in the Federal Register. Subsequently, we received comments that oppose this action. We will address these comments in a subsequent final action based on the proposed rule also published on July 26, 2000, at 65 FR 45955.

DATES: As of October 23, 2000, we withdraw the immediate final rule published on July 26, 2000 at 65 FR 45925.

FOR FURTHER INFORMATION CONTACT: Gary Westefer, Indiana Regulatory Specialist, U.S. EPA Region 5, DM-7J, 77 West Jackson Boulevard, Chicago, Illinois 60604, (312) 886-7450.

SUPPLEMENTARY INFORMATION: Because we received written comments that oppose this authorization, we are withdrawing the immediate final rule for Indiana: Final Authorization of State Hazardous Waste Management Program Revision published on July 26, 2000, at 65 FR 45925, which intended to grant authorization for revision to Indiana's hazardous waste program under the Resource Conservation and Recovery Act (RCRA). We stated in the immediate final rule that if we received written comments that oppose this authorization during the comment period, we would publish a timely notice of withdrawal in the Federal Register. Subsequently, we received comments that oppose this action. We will address all comments in a subsequent final action based on the proposed rule previously published on July 26, 2000, at 65 FR 45955. We will not provide for additional comment during the final action.

Dated: October 6, 2000.
Francis X. Lyons,
Regional Administrator, Region 5.

[FR Doc. 00-27154 Filed 10-20-00; 8:45 am]

BILLING CODE 6560-50-P